DEPARTMENT OF DEFENSE

Department of the Air Force

Scientific Advisory Board

AGENCY: Department of the Air Force, DoD.

ACTION: Notice of closed meeting.

SUMMARY: The Operational Architecture Panel of the Predictive Battlespace Awareness to Improve Military Effectiveness Study will meet Langley Air Force Base. The purpose of this meeting is to allow the panel of this CSAF-directed study to continue the “data gathering” phase of the ongoing study efforts. The meeting will be closed to the public in accordance with Section 552b of Title 5, United States Code, specifically subparagraphs (10) and (4) thereof.

DATES: March 7-8, 2002.

ADDRESSES: Langley Air Force Base, VA.

FOR FURTHER INFORMATION CONTACT: HQ USAF Scientific Advisory Board Secretariat, (703) 697-8404.

Pamela D. Fitzgerald,
Air Force Federal Register Liaison Officer.

[FR Doc. 02-6278 Filed 3-14-02; 8:45 am]

BILLING CODE 8010-01-P